NATIONAL TRANSPORTATION SAFETY BOARD

Sunshine Act Meeting

TIME AND DATE: 9:30 a.m., Tuesday, April 28, 2015.

PLACE: NTSB Conference Center, 429 L'Enfant Plaza SW., Washington, DC 20594.

STATUS: The one item is open to the public.

MATTERS TO BE CONSIDERED:

8635 Railroad Accident Report—Chicago Transit Authority Train Collides with Bumping Post and Escalator at O'Hare Station, Chicago, Illinois, March 24, 2014.

News Media Contact: Telephone (202) 314-6100.

The press and public may enter the NTSB Conference Center one hour prior to the meeting for set up and seating.

Individuals requesting specific accommodations should contact Rochelle Hall at (202) 314-6305 by Wednesday, April 22, 2015.

The public may view the meeting via a live or archived webcast by accessing a link under “News & Events” on the NTSB home page at www.ntsb.gov.

Schedule updates including weather-related cancellations are also available at www.ntsb.gov.

CONTACT PERSON FOR MORE INFORMATION: Candi Bing, (202) 314-6403 or by email at bingc@ntsb.gov.

Dated: April 13, 2015.
Candi R. Bing,
Federal Register Liaison Officer.

[FR Doc. 2015-08711 Filed 4-13-15; 11:15 am]

BILLING CODE 7533-01-P